DEPARTMENT OF ENERGY

Federal Energy Regulatory Commission

[Docket No. RP01-360-001]

Dominion Transmission, Inc.; Notice of Compliance Filing

May 15, 2001.

Take notice that on May 8, 2001, Dominion Transmission Inc. (DTI) tendered for filing as part of its FERC Gas Tariff, Third Revised Volume No. 1, the following tariff sheet, with an effective date of May 1, 2001:

Substitute First Revised Sheet No. 1173

DTI states that the purpose of this filing is to comply with the Commission's April 26, 2001 Order on Filings in Compliance with Order No. 587-M, by modifying its previously filed tariff sheet to incorporate Version 1.4 GISB standard 3.3.17 as part of its tariff.

DTI states that copies of its letter of transmittal and enclosures are being mailed to its customers and to interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12658 Filed 5-18-01; 8:45 am]

BILLING CODE 6717-01-M